DEPARTMENT OF THE INTERIOR

National Park Service

[NPS-WASO-NAGPRA—NPS0026495; PPWOCRADN0-PCU00RP14.R50000]

Notice of Inventory Completion: Arizona State Museum, University of Arizona, Tucson, AZ

AGENCY: National Park Service, Interior.

ACTION: Notice.

SUMMARY: The Arizona State Museum, University of Arizona, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Arizona State Museum, University of Arizona. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Arizona State Museum, University of Arizona at the address in this notice by November 16, 2018.

ADDRESSES: Claire S. Barker, Repatriation Coordinator, P.O. Box 210026, Arizona State Museum, University of Arizona, Tucson, AZ 85721, telephone (520) 626-0320, email csbarker@email.arizona.edu.

SUPPLEMENTARY INFORMATION: Notice is here given in accordance with the Native American Graves Protection and Repatriation Act (NAGPRA), 25 U.S.C. 3003, of the completion of an inventory of human remains and associated funerary objects under the control of the Arizona State Museum (ASM), University of Arizona, Tucson, AZ. The human remains and associated funerary objects were removed from Pima County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the ASM professional staff in consultation with representatives of the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico, hereafter referred to as “The Tribes.”

History and Description of the Remains

In 1953, human remains representing, at minimum, two individuals were removed from an unrecorded site, designated AZ BB:14:—Rincon in Pima County, AZ, by Ray Robinson, a private citizen. This site is located in a cave in the Rincon Mountains in the eastern Tucson Basin. This collection was received by ASM in April 2017. No known individuals were identified. The 49 associated funerary objects are: Four lots of animal bone, two antler fragments, one lot of beads, one bone awl, two lots of botanical material, three lots of ceramic sherds, seven lots of chipped stone, one chipped stone projectile point preform, two lots of cordage, one digging stick, one fire drill base, one fossilized animal bone, one lot of human hair and textiles, one human hair bundle, one lithic core, one lot of matting fragments, six sandals, one lot of sandal fragments, one shell pendant, one lot of soil and plant material, two lots of stone, one lot of tabular knife fragments, three lots of textiles, one wooden staff, and three lots of wooden sticks. Based on the artifacts associated with these remains and the geographic location of discovery, these human remains likely date to A.D. 500-1450, which encompasses the Hohokam cultural sequence.

Archeologists describe the earliest settlements in Southern Arizona as belonging to the Late Archaic/Early Agricultural horizon. Recent archeological investigations have added support to the hypothesis that the Hohokam cultural tradition arose from the earlier horizon, based on continuities in settlement pattern, architectural technologies, irrigation technologies, subsistence patterns, and material culture. Archeologists have had difficulty dating the beginning of the Hohokam period because the appearance of its distinctive cultural traits, including ceramic technologies and mortuary patterns, was a gradual process spanning several hundred years. This observation adds further support to the hypothesis that the Hohokam tradition evolved in place from earlier Late Archaic traditions. Linguistic evidence furthermore suggests that the Hohokam tradition was multiethnic in nature. Cultural continuity between these prehistoric occupants of Southern Arizona and present-day O'odham peoples is supported by continuities in settlement pattern, architectural technologies, basketry, textiles, ceramic technology, and ritual practices.

Archeologists have also recognized the presence of people associated with the Mogollon tradition in southeastern Arizona. It is thought that their presence represents a migration of people from the mountainous region to the north, where the Mogollon archeological culture was originally defined. Material culture characteristics of Mogollon traditions include a temporal progression from earlier pit houses to later masonry pueblos, villages organized in room blocks of contiguous dwellings associated with plazas, rectangular kivas, polished and paint-decorated ceramics, painted and unpainted corrugated ceramics, red and brown ceramics, inhumation burials, cradleboard cranial deformation, grooved stone axes, and bone artifacts. In southeastern Arizona, there is evidence for both Hohokam and Mogollon traditions, but it is unclear whether this represents separate occupations of different people who interacted and exchanged material culture, or cohabitation and a blending of identities.

Oral traditions that are documented for the Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and the Tohono O'odham Nation of Arizona support cultural affiliation with Late Archaic/Early Agricultural period and Hohokam sites in southern Arizona.

Oral traditions that are documented for the Hopi Tribe also support cultural affiliation with Late Archaic/Early Agricultural period and Hohokam sites in the region. Several Hopi clans and religious societies are derived from ancestors who migrated from the south and likely identified with the Hohokam tradition. Oral traditions and archeological evidence also support affiliation of Hopi clans with the Mogollon archeological sites.

Oral traditions of medicine societies and kiva groups of the Zuni Tribe recount migration from distant portions of the Southwest to present day Zuni, and support affiliation with Mogollon, Hohokam, and Late Archaic traditions. Historical linguistic analysis also suggests interaction between ancestral Zuni and Uto-Aztecan speakers during the late Hohokam period.

Determinations Made by the Arizona State Museum

Officials of Arizona State Museum have determined that:

• Pursuant to 25 U.S.C. 3001(9), the human remains described in this notice represent the physical remains of two individuals of Native American ancestry.

• Pursuant to 25 U.S.C. 3001(3)(A), the 49 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Claire S. Barker, Repatriation Coordinator, P.O. Box 210026, Arizona State Museum, University of Arizona, Tucson, AZ 85721, telephone (520) 626-0320, email csbarker@email.arizona.edu, by November 16, 2018. After that date, if no additional requestors have come forward, transfer of control of the human remains and associated funerary objects to The Tribes may proceed.

The Arizona State Museum is responsible for notifying The Tribes that this notice has been published.

Dated: September 14, 2018.
Melanie O'Brien,
Manager, National NAGPRA Program.

[FR Doc. 2018-22600 Filed 10-16-18; 8:45 am]

BILLING CODE 4312-52-P